DEPARTMENT OF TRANSPORTATION

Federal Aviation Administration

14 CFR Part 71

[Docket FAA 2005-21522; Airspace Docket No. 05-AWP-06]

Establishment of Class E Surface Area, South Lake Tahoe, CA

AGENCY: Federal Aviation Administration (FAA), DOT.

ACTION: Final rule.

SUMMARY: This action establishes a Class E Surface Area to replace existing Class D airspace at South Lake Tahoe, CA.

DATES: Effective Date: 0901 UTC September 1, 2005.

FOR FURTHER INFORMATION CONTACT: Larry Tonish, Air Traffic Division, Airspace Specialist, AWP-520, Western-Pacific Region, Federal Aviation Administration, 15000 Aviation Boulevard, Lawndale, California 90261, telephone (310) 725-6539.

SUPPLEMENTARY INFORMATION:

History

On January 20, 2005, the FAA revoked Class D airspace at South Lake Tahoe, CA due to the closure of the Airport Traffic Control Tower. This action will establish Class E Surface Area airspace at South Lake Tahoe, CA to replace the Class D airspace, and to contain instrument procedures in controlled airspace.

Class E Surface Area airspace is published in Paragraph 6002 of FAA Order 7400.9M dated August 30, 2004, and effective September 16, 2004, which is incorporated by reference in 14 CFR 71.1. The Class E Surface Area airspace designation listed in this document would be published subsequently in this Order.

The Rule

This amendment to 14 CFR, part 71 establishes Class E Surface Area at South Lake Tahoe, CA.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR, part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9M, Airspace Designation and Reporting Points, dated August 30, 2004, and effective September 16, 2004, is amended as follows:

* * * * *

Paragraph 6002 Class E Airspace Designated as Surface Areas.

* * * * *

AWP CA E2 South Lake Tahoe, CA [Established]

South Lake Tahoe Airport, CA

(Lat. 38°53′38″ N., long. 122°59′44″ W.)

Within a 4.3-mile radius of the South Lake Tahoe Airport.

Issued in Los Angeles, California, on June 28, 2005.
Leonard Mobley,
Acting Area Director, Western Terminal Operations.

[FR Doc. 05-13365 Filed 7-6-05; 8:45 am]

BILLING CODE 4910-13-M